DEPARTMENT OF DEFENSE

Department of the Navy

[Docket ID USN-2018-HQ-0009]

Privacy Act of 1974; System of Records

AGENCY: Department of the Navy, DoD.

ACTION: Notice of a new system of records.

SUMMARY: The Department of the Navy (DON) is proposing to establish a new system of records that will be used to verify eligibility of current DON law enforcement officers for assigned duties and to determine if reassignment, reclassification, detail or other administrative action is warranted based on an officer's ability to obtain or maintain credential qualification requirements; verify and validate eligibility of current, separating or separated and retired DON law enforcement officers to ship, transport, possess or receive Government-issued or private firearms or ammunition; and to verify and validate eligibility of current, separating or separated, and retired DON law enforcement officers to receive DON endorsed law enforcement credentials, to include Law Enforcement Officers Safety Act (LEOSA).

DATES: Comments will be accepted on or before August 16, 2018. This proposed action will be effective the day following the end of the comment period unless comments are received which result in a contrary determination.

ADDRESSES: You may submit comments, identified by docket number and title, by any of the following methods:

• Federal Rulemaking Portal: http://www.regulations.gov. Follow the instructions for submitting comments.

• Mail: Department of Defense, Office of the Chief Management Officer, Directorate for Oversight and Compliance, Regulatory and Advisory Committee Division, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Sally A. Hughes, Head, FOIA/PA Programs (ARSF), Headquarters, U.S. Marine Corps, 3000 Marine Corps Pentagon, Washington, DC 20350-3000, telephone (703) 614-3685.

SUPPLEMENTARY INFORMATION: The Law Enforcement Officers Safety Act (LEOSA) is a United States federal law that allows two classes of persons—the “qualified law enforcement officer” and the “qualified retired law enforcement officer”—to carry a concealed firearm in any jurisdiction in the United States.

The Department of the Navy's notices for systems of records subject to the Privacy Act of 1974, as amended, have been published in the Federal Register and are available from the address in FOR FURTHER INFORMATION CONTACT or from the Defense Privacy and Civil Liberties Division website at http://defense.gov/privacy.

The proposed system report, as required by the Privacy Act of 1974, as amended, was submitted on May 16, 2018 to the House Committee on Oversight and Government Reform, the Senate Committee on Governmental Affairs, and the Office of Management and Budget (OMB) pursuant to paragraph 7 of OMB Circular No. A-108, “Federal Agency Responsibilities for Review, Reporting, and Publication under the Privacy Act,” revised December 23, 2016 (December 23, 2016 81 FR 94424).

Dated: July 12, 2018.
Aaron T. Siegel,
Alternate OSD Federal Register Liaison Officer, Department of Defense.

SYSTEM NAME AND NUMBER:

Law Enforcement Officer Eligibility and Credential Records, NM05580-2.

SECURITY CLASSIFICATION:

Unclassified.

SYSTEM LOCATION:

Organization elements of the Department of the Navy (DON). Official mailing addresses are published in the Standard Navy Distribution List available, as an appendix to the Navy's compilation of system of records notices, or may be obtained from the system manager. Applications are submitted via Defense Consulting Services, 15750-W-1-10, San Antonio, TX 78249. Third Party services for USMC are provided by LEOSA Credential Manager, 701 South Courthouse Road, Building 2, Floor 2, Arlington, VA 22204. Tel: (703) 604-4502, Email: leosa@usmc.mil.

SYSTEM MANAGER(S):

LEOSA Program Manager, Commander, Navy Installations Command, 716 Sicard Street SE, Suite 1000, Washington Navy Yard, DC 20374-5140. Tel: (202)-433-9567.

Marine Corps Policy Official, Head, Law Enforcement and Corrections Branch, Security Division, Plans, Policies and Operations (PP&O), Headquarters, U.S. Marine Corps, 3000 Pentagon, Room 4A324, Washington, DC 20350-3000. Tel: (703) 614-1068.

Record Holders Commanding officers of the U.S. Navy activity in question and/or Marine Corps Credential Approving Authorities at Marine Corps Headquarters, installations, and units. Official mailing addresses are published in the Standard Navy Distribution List that is available at http://doni.daps.dla.mil/sndl.aspx.

AUTHORITY FOR MAINTENANCE OF THE SYSTEM:

10 U.S.C. 5013, Secretary of the Navy; 10 U.S.C. 5041, Headquarters, Marine Corps function, composition; 18 U.S.C. 922, Unlawful Acts; 18 U.S.C. 926B and 926C, Carrying of concealed firearms by qualified retired law enforcement officers; DoD Instruction 5525.12 Implementation of the Law Enforcement Officers Safety Act of 2004 (LEOSA); and E.O. 9397 (SSN), as amended.

PURPOSE(S) OF THE SYSTEM:

To verify eligibility of current DON law enforcement officers for assigned duties and to determine if reassignment, reclassification, detail or other administrative action is warranted based on an officer's ability to obtain or maintain credential qualification requirements.

To verify and validate eligibility of current, separating or separated and retired DON law enforcement officers to ship, transport, possess or receive Government-issued or private firearms or ammunition.

To verify and validate eligibility of current, separating or separated, and retired DON law enforcement officers to receive DON endorsed law enforcement credentials, to include LEOSA credentials.

CATEGORIES OF INDIVIDUALS COVERED BY THE SYSTEM:

Current, separating or separated, and retired DON law enforcement officers including military police, masters at arms, and civilian police officers.

CATEGORIES OF RECORDS IN THE SYSTEM:

Name, Social Security Number (SSN), Department of Defense (DoD) Identification (ID) Number, date and place of birth, gender, citizenship, badge number, physical description, passport type photograph, copy of military identification card, copy of state driver's license or state issued identification card, copy of Federal Bureau of Investigation (FBI) Identity History Summary, service status, dates of service, Military Occupational Specialty (MOS) code, title/series/grade, assignments, related education and training completed, statements of medical qualification, certifications granted and/or revoked, copies of credentials, clearances, notice of personnel actions, notice of convictions, type of separation, affiliated law enforcement experience including dates of employment, position/job title and reason for leaving, work and home phone numbers, email addresses, and mailing addresses, applications for DON issued certification of eligibility, applicant signed statements of eligibility and understanding of requirements, copies of DD 2760, DD-214, and SF-50.

RECORD SOURCE CATEGORIES:

Individuals, DoD, DON, Navy and U.S. Marine Corps security offices, the FBI, and system managers.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3) as follows:

a. To the Department of Justice for the purpose of inclusion in the National Instant Criminal Background Check System, which may be used by firearm licensees (importers, manufacturers or dealers) to determine whether individuals are qualified to receive or possess firearms and ammunition.

b. To contractors, grantees, experts, consultants, students, and others performing or working on a contract, service, grant, cooperative agreement, or other assignment for the federal government when necessary to accomplish an agency function related to this system of records.

c. To designated officers and employees of Federal, State, local, territorial or tribal, international, or foreign agencies maintaining civil, criminal, enforcement, or other pertinent information, such as current licenses, if necessary to obtain information relevant and necessary to a DoD Component decision concerning the hiring or retention of an employee, the issuance of a security clearance, the letting of a contract, or the issuance of a license, grant, or other benefit.

d. To designated officers and employees of Federal, State, local, territorial, tribal, international, or foreign agencies in connection with the hiring or retention of an employee, the conduct of a suitability or security investigation, the letting of a contract, or the issuance of a license, grant or other benefit by the requesting agency, to the extent that the information is relevant and necessary to the requesting agency's decision on the matter and the Department deems appropriate.

e. To the Office of Personnel Management (OPM) for the purpose of addressing civilian pay and leave, benefits, retirement deduction, and any other information necessary for the OPM to carry out its legally authorized government-wide personnel management functions and studies

f. To the appropriate Federal, State, local, territorial, tribal, foreign, or international law enforcement authority or other appropriate entity where a record, either alone or in conjunction with other information, indicates a violation or potential violation of law, whether criminal, civil, or regulatory in nature.

g. To any component of the Department of Justice for the purpose of representing the DoD, or its components, officers, employees, or members in pending or potential litigation to which the record is pertinent.

h. In an appropriate proceeding before a court, grand jury, or administrative or adjudicative body or official, when the DoD or other Agency representing the DoD determines that the records are relevant and necessary to the proceeding; or in an appropriate proceeding before an administrative or adjudicative body when the adjudicator determines the records to be relevant to the proceeding.

i. To the National Archives and Records Administration for the purpose of records management inspections conducted under the authority of 44 U.S.C. 2904 and 2906.

j. To a Member of Congress or staff acting upon the Member's behalf when the Member or staff requests the information on behalf of, and at the request of, the individual who is the subject of the record.

k. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

l. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Paper records and/or electronic storage media.

POLICIES AND PRACTICES FOR RETRIEVAL OF RECORDS:

Name, last four of SSN or DoD ID number.

POLICIES AND PRACTICES FOR RETENTION AND DISPOSAL OF RECORDS:

Current DON law enforcement officer general eligibility verification records: Destroy upon separation or transfer of employee or when 2 years old, whichever is earlier.

Application packages for active duty/currently employed Navy and Marine Corps law enforcement officer 926B LEOSA Credentials:

1. DD Form 2760, Qualification to Possess Firearms or Ammunition.

a. Enlisted military police (MP): Destroy 5 years after initial issuance of law enforcement credentials or upon submission of updated DD Form 2760 during law enforcement credential renewal.

b. Commissioned officers, warrant officers, and Navy and Marine Corps civilian police officers: Destroy 10 years after initial issuance of law enforcement credentials or upon submission of updated DD Form 2760 during law enforcement credential renewal.

2. LEOSA 926B Certificate of Eligibility.

Destroy 5 years after initial issuance of law enforcement credentials or upon submission of updated LEOSA 926B Certificate of Eligibility during law enforcement credential renewal.

Application packages for Retired/Separated Navy and Marine Corps law enforcement officer 926C LEOSA Credentials are destroyed 2 years after issuance of law enforcement credentials.

The DD Form 2760, Qualification to Possess Firearms or Ammunition and the LEOSA 926C Certification of Eligibility are PERMANENT records and transferred to the National Archives 2 years after issuance of law enforcement credentials.

a. Destroy paper/electronic copies upon receipt of acceptance by NARA.

Collection forms, paper and/or plastic badges/passes are shredded or incinerated using DoD approved procedures. If any IT system or data storage media fails and must be replaced, the data storage component (e.g., disks/hard drives) is removed from the hardware and degaussed with DoD approved degaussing systems and are then mechanically shredded prior to disposal.

ADMINISTRATIVE, TECHNICAL, AND PHYSICAL SAFEGUARDS:

Access is provided on a need-to-know basis only. Paper records are maintained in file cabinets under the control of authorized personnel during working hours. The office space in which the file cabinets are located is locked outside of official working hours. Computer terminals are located in supervised areas. Access is controlled by password and/or Primary Key Infrastructure (PKI)/Common Access Card (CAC). Computerized records maintained in a controlled area are accessible only to authorized personnel. Records are maintained in a controlled facility. Physical entry is restricted by the use of locks, guards, and is accessible only to authorized personnel. Physical and electronic access is restricted to designated individuals having a need-to-know in the performance of official duties and who are properly screened and cleared for need-to-know.

RECORD ACCESS PROCEDURES:

Individuals seeking access to records about themselves contained in this system should address written inquiries to Commanding Officer of the activity in question. Official mailing addresses are published in the Standard Navy Distribution List available as an appendix to the Navy's compilation of system of records notices or may be obtained from the system manager.

For Marine Corps LEOSA 926C and 926B Credential application records, individuals should address written inquiries to the Commandant of the Marine Corps, Plans, Policies, and Operations, Security Division, Law Enforcement and Corrections Branch (PSL), 3000 Marine Corps Pentagon, Washington, DC 20380-1775.

For verification purposes, the individual should provide full name, SSN and/or DoD ID Number, sufficient details to permit locating pertinent records, and either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

CONTESTING RECORD PROCEDURES:

The Navy's rules for accessing records, and for contesting contents and appealing initial agency determinations are published in Secretary of the Navy Instruction 5211.5E; 32 CFR part 701; or may be obtained from the system manager.

NOTIFICATION PROCEDURES:

Individuals seeking to determine whether information about themselves is contained in this system should address written inquiries to the Commanding Officer of the activity in question. Official mailing addresses are published in the Standard Navy Distribution List available as an appendix to the Navy's compilation of system of records notices or may be obtained from the system manager.

For Marine Corps LEOSA 926C and 926B Credential application records, individuals should address written inquiries to the Commandant of the Marine Corps, Plans, Policies, and Operations, Security Division, Law Enforcement and Corrections Branch (PSL), 3000 Marine Corps Pentagon, Washington, DC 20380-1775.

For verification purposes, individual should provide full name, SSN and/or DoD ID Number, sufficient details to permit locating pertinent records, and either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

EXEMPTIONS PROMULGATED FOR THE SYSTEM:

None.

HISTORY:

None.

[FR Doc. 2018-15226 Filed 7-16-18; 8:45 am]

BILLING CODE 5001-06-P